DEPARTMENT OF AGRICULTURE

Forest Service

Notice of Proposed New Fee Site

AGENCY: Bridger-Teton National Forest, Forest Service, USDA.

ACTION: Notice of proposed new fee site.

SUMMARY: The Bridger-Teton National Forest is proposing to charge fees at two new rental cabins: Sherman Guard Station and Green River Lakes. The Green River Lakes Rental Cabin would be open year round with proposed fees of $100 during summer and $75 during winter. The Sherman Guard Station site has two cabins. The Forest is proposing an $80 fee during summer for both cabins and a $35 fee for one cabin or $60 fee for both the cabins during the winter. Reduced fees in winter would account for no running water being available at either site. Fees are assessed based on the level of amenities and services provided, cost of operations and maintenance, and market assessment. The fee is proposed and will be determined upon further analysis and public comment. Funds from fees would be used for the continued operation and maintenance and improvements of these rental cabins.

An analysis of the nearby private rental cabins with similar amenities shows that the proposed fees are reasonable and typical of similar sites in the area.

DATES: Comments will be accepted through September 30, 2017. New fees would begin June 2018.

ADDRESSES: Shannon Connolly, Forest Recreation Program Manager, 340 N Cache, P.O. Box 1888, Jackson, Wyoming 83001, or email them to shannonconnollly@fs.fed.us with “BT Recreation Fee Proposal” as the subject line. Comments will be until taken until September, 2017.

FOR FURTHER INFORMATION CONTACT: Shannon Connolly, Forest Recreation Program Manager, 307-739-5516. Information about proposed fee changes can also be found on the Bridger-Teton National Forest Web site: http://www.fs.usda.gov/btnf.

SUPPLEMENTARY INFORMATION: The Federal Recreation Lands Enhancement Act (Title VII, Pub. L. 108-447) directed the Secretary of Agriculture to publish a six month advance notice in the Federal Register whenever new recreation fee areas are established. Once public involvement is complete, these new fees will be reviewed by a Recreation Resource Advisory Committee prior to a final decision and implementation. People wanting reserve these cabins would need to do so through the National Recreation Reservation Service, at www.recreation.gov or by calling 1-877-444-6777 when it becomes available.

Dated: April 26, 2017.
Jeanne M. Higgins,
Acting Associate Deputy Chief, National Forest System.

[FR Doc. 2017-10947 Filed 5-25-17; 8:45 am]

BILLING CODE 3411-15-P